DEPARTMENT OF ENERGY

Federal Energy Regulatory Commission

Combined Notice of Filings #1

Take notice that the Commission received the following electric corporate filings:

Docket Numbers: EC14-59-000.

Applicants: MidAmerican Geothermal, LLC, TransAlta (CE Gen) Investment USA, Inc., CE Generation, LLC, CalEnergy, LLC, Power Resources, Ltd., Saranac Power Partners, L.P.

Description: Joint Application for Authorization under Section 203 of the Federal Power Act of MidAmerican Geothermal, LLC, et al.

Filed Date: 2/20/14.

Accession Number: 20140220-5028.

Comments Due: 5 p.m. ET 3/13/14.

Take notice that the Commission received the following electric rate filings:

Docket Numbers: ER11-4436-002; ER10-2473-003; ER10-2502-003; ER10-2472-003; ER10-2474-003.

Applicants: Black Hills Power, Inc., Cheyenne Light Fuel and Power Company, Black Hills/Colorado Electric Utility Company, Black Hills Colorado IPP, LLC, Black Hills Wyoming, LLC.

Description: Second Amendment to June 28, 2013 Updated Market Power Analysis of the Black Hills Corporation Public Utilities for the Northwest Region.

Filed Date: 2/19/14.

Accession Number: 20140219-5203.

Comments Due: 5 p.m. ET 3/12/14.

Docket Numbers: ER13-738-002; ER11-3097-006; ER10-1212-005; ER10-1186-005; ER10-1277-005; ER10-1211-005; ER10-1188-005.

Applicants: DTE Electric Company, DTE Energy Trading, Inc., DTE River Rouge No. 1, L.L.C., DTE Energy Supply, Inc., DTE East China, LLC, DTE Pontiac North, LLC, DTE Stoneman, LLC.

Description: Supplement to December 20, 2013 Notice of Change in Status of the DTE MBR Entities.

Filed Date: 2/7/14.

Accession Number: 20140207-5130.

Comments Due: 5 p.m. ET 2/28/14.

Docket Numbers: ER14-776-001.

Applicants: Ohio Valley Electric Corporation.

Description: Amendment to Order Nos. 764, 764-A and 764-B Compliance Filing to be effective 11/12/2013.

Filed Date: 2/20/14.

Accession Number: 20140220-5000.

Comments Due: 5 p.m. ET 3/13/14.

Docket Numbers: ER14-1335-000.

Applicants: Tenaska, Inc.

Description: Request for Limited Waiver of Tensaka, Inc.

Filed Date: 2/18/14.

Accession Number: 20140218-5262.

Comments Due: 5 p.m. ET 3/11/14.

Docket Numbers: ER14-1343-000.

Applicants: Bargain Energy, LLC.

Description: Bargain Energy, LLC Market Based Rate Tariff to be effective 2/19/2014.

Filed Date: 2/19/14.

Accession Number: 20140219-5189.

Comments Due: 5 p.m. ET 3/12/14.

Docket Numbers: ER14-1344-000.

Applicants: Southwest Power Pool, Inc.

Description: 1374R18 Kansas Power Pool and Westar Meter Agent Agreement to be effective 2/1/2014.

Filed Date: 2/20/14.

Accession Number: 20140220-5080.

Comments Due: 5 p.m. ET 3/13/14.

Docket Numbers: ER14-1345-000.

Applicants: Public Service Company of Colorado.

Description: Notice of Cancellation of pre etariff service agreements 160-PSCo and 162-PSCo on behalf of Public Service Company of Colorado.

Filed Date: 2/20/14.

Accession Number: 20140220-5098.

Comments Due: 5 p.m. ET 3/13/14.

Docket Numbers: ER14-1346-000.

Applicants: PJM Interconnection, L.L.C.

Description: Notice of Cancellation of Original Service Agreement No. 2964; Non-Queued ISA to be effective 2/3/2014.

Filed Date: 2/20/14.

Accession Number: 20140220-5107.

Comments Due: 5 p.m. ET 3/13/14.

Docket Numbers: ER14-1347-000.

Applicants: PJM Interconnection, L.L.C.

Description: Notice of Cancellation of Original Service Agreement No. 2656; Queue No. U2-068 to be effective 9/19/2013.

Filed Date: 2/20/14.

Accession Number: 20140220-5111.

Comments Due: 5 p.m. ET 3/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 20, 2014.
Nathaniel J. Davis, Sr.,
Deputy Secretary.

[FR Doc. 2014-04383 Filed 2-27-14; 8:45 am]

BILLING CODE 6717-01-P